ENVIRONMENTAL PROTECTION AGENCY

[FRL-7547-6]

Preliminary Listing of Additional Waters to Ohio's 2002 List of Waters Under Section 303(d) of the Clean Water Act

AGENCY: Environmental Protection Agency (EPA).

ACTION: Notice and request for comments.

SUMMARY: This notice announces the EPA decision identifying water quality limited segments and associated pollutants in Ohio to be listed pursuant to the Clean Water Act section 303(d)(2), and requests public comment. Section 303(d)(1) requires that states submit lists of waters for which existing technology-based pollution controls are not stringent enough to attain or maintain state water quality standards and for which total maximum daily loads (TMDLs) must be prepared. Section 303(d)(2) requires EPA to review and approve or disapprove the lists submitted by the states. If EPA disapproves a state list of waters pursuant to section 303(d)(2), EPA must then identify the impaired waters.

On July 17, 2003, EPA partially approved and partially disapproved Ohio's 2002 section 303(d) list of waters still requiring TMDLs. Specifically, EPA approved Ohio's section 303(d) list of impaired waters at Table 6 of the Ohio 2002 Integrated Water Quality Monitoring and Assessment Report, including associated pollutants and associated priority rankings. EPA disapproved Ohio's decision not to identify 17 additional waters on the 2002 section 303(d) list based upon sport fish consumption advisories. In a July 17, 2003 decision document, EPA identified these additional water bodies and associated pollutants for inclusion on the Ohio 2002 section 303(d) list.

EPA is providing the public the opportunity to review its decision to add the 17 additional water bodies and pollutants to Ohio's 2002 section 303(d) list, as required by EPA's Public Participation regulations. EPA will consider public comments in reaching its final decisions on the additional water bodies and pollutants identified for inclusion on Ohio's final list.

DATES: Comments on this document must be received in writing by September 24, 2003.

ADDRESSES: Written comments on today's notice may be submitted to Jo Lynn Traub, Director, Water Division, Attn: Ohio 303 (d) list, U.S. Environmental Protection Agency, 77 West Jackson Boulevard, Chicago, Illinois 60604. As an alternative, EPA will accept comments electronically. Comments should be sent to the following Internet e-mail address: keclik.donna@epa.gov.

FOR FURTHER INFORMATION CONTACT: Donna Keclik, Watersheds and Wetlands Branch, at the EPA address noted above or by telephone at (312) 886-6766.

SUPPLEMENTARY INFORMATION: Section 303(d) of the Clean Water Act (CWA) requires that each state identify those waters for which existing technology-based pollution controls are not stringent enough to attain or maintain state water quality standards. For those waters, states are required to establish TMDLs according to a priority ranking.

EPA's Water Quality Planning and Management regulations include requirements related to the implementation of section 303(d) of the CWA (40 CFR 130.7). The regulations require states to identify water quality limited waters still requiring TMDLs every two years. The lists of waters still needing TMDLs must also include priority rankings and must identify the waters targeted for TMDL development during the next two years (40 CFR 130.7). On March 31, 2000, EPA promulgated a revision to this regulation that waived the requirement for states to submit section 303(d) lists in 2000, except in cases where a court order, consent decree, or settlement agreement required EPA to take action on a list in 2000 (65 FR17170).

Consistent with EPA's regulations, Ohio submitted to EPA its listing decision under section 303(d)(2) on October 3, 2002. On July 17, 2003, EPA approved Ohio's 2002 section 303(d) list of impaired waters and associated priority rankings. EPA disapproved Ohio's decision not to list 17 additional waters and associated pollutants on the 2002 section 303(d) list based upon sport fish consumption advisories. EPA solicits public comment on its identification of 17 additional waters and associated pollutants for inclusion on Ohio's 2002 section 303(d) list.

Dated: August 14, 2003.
Anthony Carrollo,
Acting Director, Water Division, Region 5.

[FR Doc. 03-21659 Filed 8-22-03; 8:45 am]

BILLING CODE 6560-50-P